SUSQUEHANNA RIVER BASIN COMMISSION

Actions Taken at September 8, 2016, Meeting

AGENCY: Susquehanna River Basin Commission.

ACTION: Notice.

SUMMARY: As part of its regular business meeting held on September 8, 2016, in Cooperstown, New York, the Commission took the following actions: approved or tabled the applications of certain water resources projects; and took additional actions, as set forth in the Supplementary Information below.

DATES: The business meeting was held on September 8, 2016. Please refer to the notice published in 81 FR 64812, September 21, 2016, for additional information on the proposed rulemaking, including public hearing dates and locations. Comments on the proposed consumptive use mitigation policy may be submitted to the Commission on or before January 6, 2017.

ADDRESSES: Comments may be mailed to: Jason E. Oyler, Esq., General Counsel, Susquehanna River Basin Commission, 4423 N. Front Street, Harrisburg, PA 17110-1788, or submitted electronically at http://www.srbc.net/pubinfo/publicparticipation/PublicComments.aspx?type=5&cat=20.

FOR FURTHER INFORMATION CONTACT: Jason E. Oyler, General Counsel, telephone: (717) 238-0423, ext. 1312; fax: (717) 238-2436; email: joyler@srbc.net. Regular mail inquiries may be sent to the above address. See also Commission Web site at www.srbc.net.

SUPPLEMENTARY INFORMATION: In addition to the actions taken on projects identified in the summary above and the listings below, the following items were also presented or acted upon at the business meeting: (1) rescission of the Commission's Information Technology Services Fee; (2) approval/ratification of a contract and several grants; (3) release of proposed rulemaking to clarify application requirements and standards for review of projects, amend the rules dealing with the mitigation of consumptive uses, add a subpart to provide for registration of grandfathered projects, and revise requirements dealing with hearings and enforcement actions, and release of a consumptive use mitigation policy; (4) a report on delegated settlements with the following project sponsors, pursuant to SRBC Resolution 2014-15: Lackawanna Energy Center, in the amount of $2,000; and Troy Borough Municipal Authority, in the amount of $5,000.; 5) approval to extend the term of an emergency certificate with Furman Foods, Inc. to November 30, 2016; and 6) continuance of the Show Cause proceeding granted to Montage Mountain Resorts, LP, to the December 2016 Commission meeting.

Project Applications Approved

The Commission approved the following project applications:

1. Project Sponsor and Facility: Bloomfield Borough Water Authority, Centre Township, Perry County, Pa. Groundwater withdrawal of up to 0.180 mgd (30-day average) from Well 3.

2. Project Sponsor and Facility: Cabot Oil & Gas Corporation (Susquehanna River), Great Bend Township, Susquehanna County, Pa. Renewal of surface water withdrawal of up to 2.000 mgd (peak day) (Docket No. 20120904).

3. Project Sponsor and Facility: Elizabethtown Area Water Authority, Elizabethtown Borough, Lancaster County, Pa. Groundwater withdrawal of up to 0.201 mgd (30-day average) from Well 1.

4. Project Sponsor and Facility: Elizabethtown Area Water Authority, Mount Joy Township, Lancaster County, Pa. Groundwater withdrawal of up to 0.106 mgd (30-day average) from Well 3.

5. Project Sponsor and Facility: Elizabethtown Area Water Authority, Elizabethtown Borough, Lancaster County, Pa. Groundwater withdrawal of up to 0.130 mgd (30-day average) from Well 4.

6. Project Sponsor and Facility: Elizabethtown Area Water Authority, Mount Joy Township, Lancaster County, Pa. Groundwater withdrawal of up to 0.187 mgd (30-day average) from Well 8.

7. Project Sponsor and Facility: Elizabethtown Area Water Authority, Mount Joy Township, Lancaster County, Pa. Groundwater withdrawal of up to 0.216 mgd (30-day average) from Well 9.

8. Project Sponsor and Facility: Geisinger Health System, Mahoning Township, Montour County, Pa. Modification to increase consumptive water use by an additional 0.319 mgd (peak day), for a total consumptive water use of up to 0.499 mgd (peak day) (Docket No. 19910103).

9. Project Sponsor: Pennsylvania American Water Company. Project Facility: Nittany Water System, Walker Township, Centre County, Pa. Groundwater withdrawal of up to 0.262 mgd (30-day average) from Nittany Well 1.

10. Project Sponsor and Facility: Republic Services of Pennsylvania, LLC, Windsor and Lower Windsor Townships, York County, Pa. Renewal of groundwater withdrawal of up to 0.350 mgd (30-day average) from groundwater remediation wells (Docket No. 19860903).

11. Project Sponsor and Facility: SWN Production Company, LLC, Herrick Township, Bradford County, Pa. Groundwater withdrawal of up to 0.101 mgd (30-day average) from the Fields Supply Well.

12. Project Sponsor and Facility: Talisman Energy USA Inc. (Susquehanna River), Sheshequin Township, Bradford County, Pa. Renewal of surface water withdrawal of up to 1.500 mgd (peak day) (Docket No. 20120912).

13. Project Sponsor and Facility: Transcontinental Gas Pipe Line Company, LLC. Project: Atlantic Sunrise (Chiques Creek), West Hempfield Township, Lancaster County, Pa. Surface water withdrawal of up to 2.880 mgd (peak day).

14. Project Sponsor and Facility: Transcontinental Gas Pipe Line Company, LLC. Project: Atlantic Sunrise (Conestoga River-1), Conestoga Township, Lancaster County, Pa. Surface water withdrawal of up to 0.360 mgd (peak day).

15. Project Sponsor and Facility: Transcontinental Gas Pipe Line Company, LLC. Project: Atlantic Sunrise (Conestoga River-1), Conestoga Township, Lancaster County, Pa. Consumptive water use of up to 0.100 mgd (peak day).

16. Project Sponsor and Facility: Transcontinental Gas Pipe Line Company, LLC. Project: Atlantic Sunrise (Conestoga River-2), Conestoga Township, Lancaster County, Pa. Surface water withdrawal of up to 0.360 mgd (peak day).

17. Project Sponsor and Facility: Transcontinental Gas Pipe Line Company, LLC. Project: Atlantic Sunrise (Conestoga River-2), Conestoga Township, Lancaster County, Pa. Consumptive water use of up to 0.100 mgd (peak day).

18. Project Sponsor and Facility: Transcontinental Gas Pipe Line Company, LLC. Project: Atlantic Sunrise (Deep Creek), Hegins Township, Schuylkill County, Pa. Surface water withdrawal of up to 2.880 mgd (peak day).

19. Project Sponsor and Facility: Transcontinental Gas Pipe Line Company, LLC. Project: Atlantic Sunrise (Fishing Creek), Sugarloaf Township, Columbia County, Pa. Surface water withdrawal of up to 2.592 mgd (peak day).

20. Project Sponsor and Facility: Transcontinental Gas Pipe Line Company, LLC. Project: Atlantic Sunrise (Pequea Creek), Martic Township, Lancaster County, Pa. Surface water withdrawal of up to 2.880 mgd (peak day).

21. Project Sponsor and Facility: Transcontinental Gas Pipe Line Company, LLC. Project: Atlantic Sunrise (Roaring Creek), Franklin Township, Columbia County, Pa. Surface water withdrawal of up to 2.880 mgd (peak day).

22. Project Sponsor and Facility: Transcontinental Gas Pipe Line Company, LLC. Project: Atlantic Sunrise (Susquehanna River), Eaton Township, Wyoming County, Pa. Surface water withdrawal of up to 2.592 mgd (peak day).

23. Project Sponsor and Facility: Transcontinental Gas Pipe Line Company, LLC. Project: Atlantic Sunrise (Susquehanna River), Eaton Township, Wyoming County, Pa. Consumptive water use of up to 0.100 mgd (peak day).

24. Project Sponsor and Facility: Transcontinental Gas Pipe Line Company, LLC. Project: Atlantic Sunrise (Susquehanna River-1), Montour Township and Catawissa Borough, Columbia County, Pa. Surface water withdrawal of up to 0.360 mgd (peak day).

25. Project Sponsor and Facility: Transcontinental Gas Pipe Line Company, LLC. Project: Atlantic Sunrise (Susquehanna River-1), Montour Township and Catawissa Borough, Columbia County, Pa. Consumptive water use of up to 0.100 mgd (peak day).

26. Project Sponsor and Facility: Transcontinental Gas Pipe Line Company, LLC. Project: Atlantic Sunrise (Swatara Creek), East Hanover Township, Lebanon County, Pa. Surface water withdrawal of up to 2.880 mgd (peak day).

Project Applications Tabled

The Commission tabled action on the following project applications:

1. Project Sponsor: Exelon Generation Company, LLC. Project Facility: Muddy Run Pumped Storage Project, Drumore and Martic Townships, Lancaster County, Pa. Application for an existing hydroelectric facility.

2. Project Sponsor and Facility: Gilberton Power Company, West Mahanoy Township, Schuylkill County, Pa. Application for renewal of consumptive water use of up to 1.510 mgd (peak day) (Docket No. 19851202).

3. Project Sponsor and Facility: Gilberton Power Company, West Mahanoy Township, Schuylkill County, Pa. Application for groundwater withdrawal of up to 1.870 mgd (30-day average) from the Gilberton Mine Pool.

4. Project Sponsor and Facility: Manbel Devco I, LP, Manheim Township, Lancaster County, Pa. Application for groundwater withdrawal of up to 4.320 mgd (30-day average) from the Belmont Quarry.

5. Project Sponsor and Facility: Transcontinental Gas Pipe Line Company, LLC. Project: Atlantic Sunrise (Susquehanna River-2), Montour Township, Columbia County, Pa. Application for surface water withdrawal of up to 2.880 mgd (peak day).

6. Project Sponsor and Facility: Transcontinental Gas Pipe Line Company, LLC. Project: Atlantic Sunrise (Susquehanna River-2), Montour Township, Columbia County, Pa. Application for consumptive water use of up to 0.100 mgd (peak day).

7. Project Sponsor and Facility: Village of Windsor, Broome County, N.Y. Application for groundwater withdrawal of up to 0.380 mgd (30-day average) from Well 2.

8. Project Sponsor and Facility: West Manchester Township Authority, West Manchester Township, York County, Pa. Application for groundwater withdrawal of up to 0.216 mgd (30-day average) from Well 7.

Project Application Withdrawn by Project Sponsor

The following project sponsor withdrew its project application:

1. Project Sponsor and Facility: Transcontinental Gas Pipe Line Company, LLC. Project: Atlantic Sunrise (Little Fishing Creek), Mount Pleasant Township, Columbia County, Pa. Application for surface water withdrawal of up to 2.880 mgd (peak day).

Authority: Pub.L. 91-575, 84 Stat. 1509 et seq., 18 CFR parts 806, 807, and 808.

Dated: September 27, 2016.
Stephanie L. Richardson,
Secretary to the Commission.

[FR Doc. 2016-23737 Filed 9-30-16; 8:45 am]

BILLING CODE 7040-01-P